DEPARTMENT OF THE INTERIOR

Bureau of Land Management

[OR-054-1220-DC; GP01-0132]

John Day River Management Plan, Two Rivers Resource Management Plan Amendments, John Day Resource Management Plan Amendment, Two Rivers Resource Management Plan Amendment, and Baker Resource Management Plan Amendment

AGENCY: Bureau of Land Management, Central Oregon Field Office, Prineville District, Interior.

ACTION: In compliance with the National Environmental Policy Act (NEPA) of 1969 and 40 CFR 1505.2 notice is hereby given that the Bureau of Land Management (BLM) has prepared a Record of Decision (ROD) for John Day River Management Plan, Two Rivers Resource Management Plan Amendment, John Day Two Rivers Resource Management Plan Amendment, and Baker Resource Management Plan Amendment. This document was signed by the Oregon/Washington State Director on February 28, 2001.

SUMMARY: The ROD finalizes the proposed decisions identified in the John Day River Proposed Management Plan, Two Rivers and John Day Resource Management Plan Amendments and Final Environmental Impact Statement (FEIS). The ROD also Amends the Baker Resource Management Plan. This additional Amendment does not involve any substantive change in the Decision from the proposed decision in the FEIS but does recognize that about 5 miles of the North Fork of the John Day River within the planning area falls within the Baker Resource Area.

The ROD authorizes certain future non-grazing actions that will require further planning, analysis, and subsequent decisions prior to implementation. Implementation of such decisions may be subject to appeal to the Interior Board of Land Appeals under 43 CFR 4.411. Persons interested in being notified of future actions pertaining to the John Day River should notify the Central Oregon Field Office Manager, Prineville BLM, P.O. Box 550, 3050 NE Third Street, Prineville OR 97754.

All grazing related decisions that were specifically described and/or defined in the RMP are considered final land use plan decisions and are not appealable under 43 CFR 4160 or 43 CFR 4.470. This includes decisions such as adjustments in season of use and exclusion of livestock from campgrounds. Under 43 CFR 4100.0-5 individuals, groups, or organizations who have an interest in livestock management on specific allotments must identify themselves in writing to the Central Oregon Resource Area Field Office Manager at the above address. Interested publics will be notified of any future grazing decisions and provided the opportunity to comment or appeal as appropriate.

Interested citizens not already on the mailing list may review the Record of Decision via the internet on the Prineville BLM website at http://www.or.blm.gov/Prineville/. A hardcopy or a CDROM of the EIS may be requested from the Prineville District by calling (541) 416-6700.

DATES: The decision may be implemented on the date of publication.

FOR FURTHER INFORMATION CONTACT: Dan Tippy, Prineville BLM at (541) 416-6700.

SUPPLEMENTARY INFORMATION: Twenty two protests were submitted during the 30 day protest period for the John Day River Proposed Management Plan, Two Rivers and John Day Resource Management Plan Amendments and Final Environmental Impact Statement. All of the protests were responded to and resolved by the Director of the Bureau of Land Management. Resolution of the protests resulted in two adjustments that are described in the Record of Decision.

The purpose of the Plan and Amendments is to manage BLM lands and to cooperate with other land managers to protect and enhance river values associated with the John Day Wild and Scenic River (located between river mile 10 and river mile 157 of the John Day River) and the South Fork of the John Day Wild and Scenic River (South Fork of the John Day River from about river mile 6 to about river mile 59). The river values associated with the John Day Wild and Scenic River include scenic, recreational, fish, wildlife, geologic, paleontological, and archeological values have been determined to be outstandingly remarkable on the John Day Wild and Scenic River while Botanical and Ecological values were considered significant. On the South Fork of the John Day River scenery, recreation, fish, wildlife, and botanical values are considered outstandingly remarkable while geological, prehistoric uses, and traditional uses are considered significant values.

The decision will protect and enhance river values by modifying existing management of scenery, grazing, agriculture, forestlands, rangeland restoration, recreation, mining and minerals within the planning area. For other resources and concerns existing management guidance was considered sufficient to protect and enhance river values. The Decision identifies certain lands within the planning area as suitable for disposal or suitable for acquisition.

Dated: July 18, 2001.
A. Barron Bail,
Prineville District Manager.

[FR Doc. 01-21138 Filed 8-21-01; 8:45 am]

BILLING CODE 4310-33-P